ENVIRONMENTAL PROTECTION AGENCY

[FRL-7127-5]

FY2002-2003 Great Lakes National Program Office Request for Proposals

AGENCY: Environmental Protection Agency (EPA).

ACTION: Notice of funding availability.

SUMMARY: EPA's Great Lakes National Program Office (GLNPO) is now requesting the submission of Proposals for GLNPO funding through the “FY2002-2003 Great Lakes National Program Office Request for Proposals” (RFP). The RFP solicits Proposals for assistance projects in the areas of Contaminated Sediments, Pollution Prevention and Reduction, Ecological (Habitat) Protection and Restoration, Invasive Species, Habitat Indicator Development, and Emerging or Strategic Issues.

DATES: The deadline for submission of Proposals is February 15, 2002.

Document Availability: The RFP is available on the Internet at http://www.epa.gov/glnpo/fund/2002guid/. It is also available from Lawrence Brail (312-886-7474/brail.lawrence@epa.gov).

FOR FURTHER INFORMATION CONTACT: Mike Russ, EPA-GLNPO, G-17J, 77 West Jackson Blvd., Chicago, IL 60604 (312-886-4013/russ.michael@epa.gov).

SUPPLEMENTARY INFORMATION: USEPA's Great Lakes National Program Office is targeting a total of $2.9 million to award in the summer and fall of FY 2002 for Great Lakes projects pertaining to: Contaminated Sediments; Pollution Prevention and Reduction (Binational Toxics Strategy); Ecological (Habitat) Protection and Restoration; Invasive Species; Habitat Indicator Development; and Strategic or Emerging Issues. Assistance (through grants, cooperative agreements, and interagency agreements) is available pursuant to Clean Water Act section 104(b)(3) for activities in the Great Lakes Basin and in support of the Great Lakes Water Quality Agreement. State pollution control agencies, interstate agencies, other public or nonprofit private agencies, institutions, and organizations are eligible to apply. Potential applicants can find the Request for Proposals, including evaluation criteria and the Proposal development and submittal program, on the Internet at http://www.epa.gov/glnpo/fund/2001guid/.

Dated: December 20, 2001.
Gary V. Gulezian,
Director, Great Lakes National Program Office.

[FR Doc. 02-625 Filed 1-9-02; 8:45 am]

BILLING CODE 6560-50-P